DEPARTMENT OF THE INTERIOR

National Park Service

[NPS-JHCBLAC-0829-8304; ACCOUNT #: 1715-685]

Meeting of the John H. Chafee Blackstone River Valley National Heritage Corridor Commission

AGENCY: National Heritage Corridor Commission, John H. Chafee Blackstone River Valley, National Park Service, Department of the Interior.

ACTION: Notice.

SUMMARY: Notice is hereby given in accordance with the Federal Advisory Committee Act, 5 U.S.C. Appendix, that the John H. Chafee Blackstone River Valley National Heritage Corridor Commission will conduct a meeting on September 30, 2011. Members of the public may attend the meeting in person in The Museum of Work and Culture, Market Square, 42 South Main Street, Woonsocket, RI 02895.

During this meeting the Commission will convene for the following reasons:

1. Approval of Minutes.

2. Chairman's Report.

3. Executive Director's Report.

4. Financial Budget.

5. Public Input.

The Commission was established pursuant to Public Law 99-647. The purpose of the Commission is to assist federal, state and local authorities in the development and implementation of an integrated resource management plan for those lands and waters within the Corridor.

DATES: The Commission meeting will be held on September 30, 2011 from 9 a.m. to 12 p.m., Easter Daylight Time, inclusive.

Location: The Commission meeting will be conducted at the Museum of Work and Culture, Market Square, 42 South Main Street, Woonsocket, RI 02895. Telephone (401) 769-9675.

FOR FURTHER INFORMATION CONTACT: For information concerning the John H. Chafee Blackstone River Valley National Heritage Corridor Commission or to request to address the Commission, contact Jan H. Reitsma, Executive Director, John H. Chafee Blackstone River Valley National Heritage Corridor Commission, One Depot Square, Woonsocket, RI 02895. Tel.: (401) 762-0250. E-mail: Jan_reitsma@nps.gov.

SUPPLEMENTARY INFORMATION: The Commission meeting will be open to the public. Space and facilities to accommodate the public are limited and attendees will be accommodated on a first-come basis. It is anticipated that about thirty people will be able to attend the session in addition to the Commission members. Opportunities for oral comment will be limited to no more than 3 minutes per speaker and no more than 15 minutes in total. The Board's Chairman will determine how time for oral comments will be allotted. Anyone may file with the Commission a written statement concerning matters to be discussed. Such requests should be made prior to the meeting. Before including your address, telephone number, e-mail address, or other personal identifying information in your comment, you should be aware that your entire comment—including your personal identifying information—may be made publicly available at any time. While you can ask us in your comment to withhold your personal identifying information from public review, we cannot guarantee that we will be able to do so.

Draft minutes of the meeting will be available for public inspection about 12 weeks after the meeting in the John H. Chafee Blackstone River Valley National Heritage Corridor Commission Office at One Depot Square, Woonsocket, RI 02895.

Dated: September 6, 2011.
Jan H. Reitsma,
Executive Director, BRVNHCC.

[FR Doc. 2011-23374 Filed 9-12-11; 8:45 am]

BILLING CODE 4310-RK-P